FARM CREDIT ADMINISTRATION

Farm Credit Administration Board; Sunshine Act Meeting

AGENCY: Farm Credit Administration.

SUMMARY: Notice is hereby given, pursuant to the Government in the Sunshine Act (5 U.S.C. 552b(e)(3)), of the regular meeting of the Farm Credit Administration Board (Board).

DATES: The regular meeting of the Board will be held at the offices of the Farm Credit Administration in McLean, Virginia, on June 12, 2003, from 9 a.m. until such time as the Board concludes its business.

FOR FURTHER INFORMATION CONTACT: Jeanette C. Brinkley, Secretary to the Farm Credit Administration Board, (703) 883-4009, TTY (703) 883-4056.

ADDRESSES: Farm Credit Administration, 1501 Farm Credit Drive, McLean, Virginia 22102-5090.

SUPPLEMENTARY INFORMATION: Parts of this meeting of the Board will be open to the public (limited space available), and parts will be closed to the public. In order to increase the accessibility to Board meetings, persons requiring assistance should make arrangements in advance. The matters to be considered at the meeting are:

Open Session

A. Approval of Minutes

May 8, 2003 (open and closed).

B. Reports

• Corporate Approvals;

• FCS Building Association Quarterly Report;

• Allowance for Loan Loss Update;

• Financial Institution Rating System (FIRS)—Capital Discussion.

Closed Session *

New Business

• OSMO Quarterly Report.

*Session closed-exempt pursuant to 5 U.S.C. 552b(c)(8) and (9).
Dated: June 4, 2003.
Jeanette C. Brinkley,
Secretary, Farm Credit Administration Board.

[FR Doc. 03-14543 Filed 6-5-03; 11:13 am]

BILLING CODE 6705-01-P